DEPARTMENT OF THE INTERIOR

National Park Service

Final General Management Plan/Environmental Impact Statement, Sagamore Hill National Historic Site, Oyster Bay, NY

AGENCY: National Park Service, Department of the Interior.

ACTION: Notice of availability of the Final General Management Plan/Environmental Impact Statement, Sagamore Hill National Historic Site.

SUMMARY: Pursuant to Sec. 102(2)(C) of the National Environmental Policy Act of 1969 (Pub. L. 91-190, as amended), the National Park Service announces the availability of the Final General Management Plan and Environmental Impact Statement (Final GMP/EIS) for Sagamore Hill National Historic Site in New York. Consistent with Federal laws, regulations, and National Park Service policies, the Final GMP/EIS describes the proposed federal action to establish a programmatic framework for park management in the form of a general management plan that is consistent with the purposes of the park as set forth in the park's enabling legislation An Act to Authorize Establishment of the Theodore Roosevelt Birthplace and Sagamore Hill National Historic Sites (Pub. L. 87-547; 76 Stat. 217).

The Final GMP/EIS evaluates alternatives to guide the management and development of Sagamore Hill NHS over the next 15 to 20 years. Under Alternative 1—Status Quo, the park would continue to be managed in accordance with existing plans and in compliance with legal and NPS policy mandates. This alternative provides a baseline for evaluating and comparing the other alternatives. Alternative 2—Building Capacity emphasized building the park's capacity to meet its basic visitor service and operational needs. Alternative 3—Past Meets Present, the agency's preferred alternative, emphasizes rehabilitation of the park's cultural resources and improvements to its visitor services and facilities to offer expanded opportunities for visitors to explore the site's contemporary relevance in the same context in which they explore its history. The Final GMP/EIS describes the affected environment and evaluates the potential environmental consequences of each alternative. Impact topics evaluated include cultural resources, natural resources, visitor use and experience, park operations, and the socioeconomic environment.

The Draft GMP/EIS was made available for public review and comment in January 2007. A public open house was held in Oyster Bay on February 1, 2007. On March 8, 2007, a “Notice of Availability” formally announcing the public availability of the Sagamore Hill National Historic Site Draft General Management Plan/ Environmental Impact Statement was published in the Federal Register (72 FR 10555). The public review period ended on May 8, 2007.

DATES: The NPS will prepare a Record of Decision concerning the selection of a management alternative no sooner than 30 days following publication by the Environmental Protection Agency of the Notice of Availability of the Final GMP/EIS in the Federal Register.

ADDRESSES: The Final GMP/EIS is available on-line at www.nps.gov/sahi. Copies of the Final GMP/EIS are available upon request by writing to: Ellen Carlson, Project Planner, National Park Service, Northeast Region, 15 State Street, Boston, MA 02109; e-mailing ellen_carlson@nps.gov, or calling (617) 223-5048. The Final GMP/EIS is also available for pick up in person at Sagamore Hill National Historic Site at 20 Sagamore Hill Road, Oyster Bay, New York, at the park's administrative offices in the Old Orchard Museum during regular business hours.

FOR FURTHER INFORMATION CONTACT: Greg Marshall, Superintendent, Sagamore Hill National Historic Site, 20 Sagamore Hill Road, Oyster Bay, NY 11771-1809, phone (516) 922-4452, greg_marshall@nps.gov.

SUPPLEMENTARY INFORMATION: A General Management Plan/Environmental Impact Statement (GMP/EIS) proposes a long-term approach to managing Sagamore Hill NHS, consistent with the park's mission and NPS policy and other laws and regulations. NPS planners, park staff, and key park partners collaborated in the development of the Draft GMP/EIS. A previous master plan was prepared for the park in 1963 but was not fully approved. Project scoping for the GMP began in May 2003. Formal public scoping sessions were held in Oyster Bay and NYC in April 2004. A preliminary alternatives newsletter was prepared and distributed in April 2005 followed by two community meetings.

The Draft GMP/EIS was made available for public review and comment in January 2007. The formal public comment period ended on May 8, 2007. A public open house was held in Oyster Bay on February 1, 2007. At that time, the park also hosted a meeting for park neighbors to solicit their feedback. During the comment period, 27 sets of formal written comments were received. The majority of respondents supported one or both of the action alternatives with most expressing their support for the National Park Service's preferred alternative.

The Final GMP/EIS addresses the following issues—improving the visitor experience, broadening and diversifying the park audience, improving operational efficiency, and enhancing resource protection. Key park partners closely involved in the development of planning alternatives include the Theodore Roosevelt Association, the Friends of Sagamore Hill, and the park's Volunteer Advisory Board. The target date for the Record of Decision is fall 2007.

The park's mission is “to preserve in public ownership and interpret the structures, landscape, collections, and other cultural resources associated with Theodore Roosevelt's Home in Oyster Bay, New York to ensure that future generations understand and appreciate the life and legacy of Theodore Roosevelt, his family, and the significant events associated with him at Sagamore Hill.” Theodore Roosevelt bought land in Oyster Bay in 1880, where he built his family home and lived until his death in 1919. Throughout his life, Roosevelt attracted national and international figures from every walk of life to this home. Sagamore Hill was the summer White House between 1902 and 1908.

The Final GMP proposes strategies for resource protection and visitor services; identifies development proposals and associated costs; addresses carrying capacity and park boundaries; examines changes in visitor use patterns and visitor experience; and considers the park's relationship with other Theodore Roosevelt-related sites within the general vicinity of the park as well as across the country.

Dated: September 13, 2007.
John A. Latschar,
Acting Regional Director, Northeast Region, National Park Service.

[FR Doc. E7-21575 Filed 11-1-07; 8:45 am]

BILLING CODE 4310-09-P